FARM CREDIT ADMINISTRATION

12 CFR Part 604

RIN 3052-AC58

Farm Credit Administration Board Meetings; Sunshine Act; Effective Date

AGENCY: Farm Credit Administration.

ACTION: Notice of effective date.

SUMMARY: The Farm Credit Administration (FCA or Agency), through the FCA Board (Board), issued a direct final rule under part 604 on August 31, 2009 (74 FR 44727) amending FCA's regulations on meeting announcements to provide greater flexibility to the FCA Board in scheduling meetings. In accordance with 12 U.S.C. 2252, the effective date of the final rule is 30 days from the date of publication in the Federal Register during which either or both Houses of Congress are in session. Based on the records of the sessions of Congress, the effective date of the regulations is October 22, 2009.

DATES: Effective Date: Under the authority of 12 U.S.C. 2252, the regulation amending 12 CFR part 604 published on August 31, 2009 (74 FR 44727) is effective October 22, 2009.

FOR FURTHER INFORMATION CONTACT:

Michael Wilson, Policy Analyst, Office of Regulatory Policy, Farm Credit Administration, McLean, Virginia 22102-5090, (703) 883-4498, TTY (703) 883-4434; or

Mary Alice Donner, Senior Attorney, Office of General Counsel, Farm Credit Administration, McLean, Virginia 22102-5090, (703) 883-4020, TTY (703) 883-4020.

(12 U.S.C. 2252(a)(9) and (10))

Dated: October 22, 2009.
Roland E. Smith,
Secretary, Farm Credit Administration Board.

[FR Doc. E9-25853 Filed 10-26-09; 8:45 am]

BILLING CODE 6705-01-P